DEPARTMENT OF THE INTERIOR

National Park Service

[NPS-MWR-OZAR-17614;PPMWMWROW2/PPM00UP05.YP0000]

Notice of Availability of a Record of Decision on the Final General Management Plan/Environmental Impact Statement, Ozark National Scenic Riverway, Missouri

AGENCY: National Park Service, Interior.

ACTION: Notice of availability.

SUMMARY: The National Park Service (NPS) announces the availability of the Record of Decision (ROD) for the Final General Management Plan/Environmental Impact Statement (GMP/EIS), Ozark National Scenic Riverways (Riverways), Missouri.

ADDRESSES: Copies of the ROD are available by request by writing to Superintendent, Ozark National Scenic Riverways, 404 Watercress Drive, P.O. Box 490, Van Buren, Missouri 63965. The document is also available on the internet at the NPS Planning, Environment, and Public Comment Web site at: http://www.parkplanning.nps.gov/.

FOR FURTHER INFORMATION CONTACT: Superintendent Bill Black at the address above, or by telephone at 573-323-4236.

SUPPLEMENTARY INFORMATION: On January 22, 2015, the Acting Regional Director for the Midwest Region signed the ROD for the Final GMP/EIS, thereby approving it. As soon as practicable, the Riverways will begin the implementation of the selected alternative B (the preferred alternative) as described in the final GMP/EIS. Alternative B will enhance opportunities for visitors to discover and learn about the natural wonders and Ozark heritage of the National Riverways, while maintaining a mix of traditional recreational and commercial activities. Emphasis will be placed on increasing opportunities for visitor education and connections to natural resources and cultural landscapes.

This alternative focuses on providing a balance of diverse recreational opportunities and visitor experiences along with increasing visitor education and appreciation of natural and cultural resources of the park unit. This alternative will provide a comprehensive Riverways-wide approach to resource and visitor use management. Specific management zones detailing acceptable resource conditions, visitor experience and use levels, and appropriate activities and development will be applied to Riverways' lands consistent with this concept.

A mix of private and guided traditional recreational activities like boating, floating, and horseback riding will occur under this alternative. Additional trails and a small learning center at a rehabilitated Powder Mill will be developed to better orient and inform visitors. Natural resources will be restored to more natural conditions, while maintaining greater opportunities for visitor access. Most of the Big Spring Wilderness Study Area will be recommended for wilderness designation.

The selected action and three other alternatives were analyzed in the draft and final GMP/EIS. The full range of foreseeable environmental consequences was assessed. Among the alternatives the NPS considered, the selected action best achieves a high standard of natural and cultural resource protection with improved opportunities for visitors in the park. The NPS selected alternative B as its preferred alternative following an evaluation of the effectiveness of each alternative in meeting the stated objectives of the general management plan, and the environmental benefits and adverse impacts for each alternative. This alternative provides the best combination of strategies to protect the park unit's unique natural and cultural resources and visitor experience, while improving the park unit's operational effectiveness and sustainability. It also provides other advantages to the Riverways, regional communities, partners, and stakeholders.

In addition, selection of the preferred alternative, as reflected by the analysis contained in the final GMP/EIS, will not result in the impairment of park resources and will allow the National Park Service to conserve National Riverways' resources and provide for their enjoyment by visitors.

Dated: January 22, 2015.
Patricia S. Trap,
Acting Regional Director, Midwest Region.

Editor's note: This document was received for publication by the Office of the Federal Register on June 18, 2015.

[FR Doc. 2015-15417 Filed 6-22-15; 8:45 am]

BILLING CODE 4310-MA-P